DEPARTMENT OF TRANSPORTATION

Federal Aviation Administration

14 CFR Part 71

[Docket No. FAA-2010-0445 Airspace Docket No. 10-AAL-13]

Proposed Revocation and Establishment of Class E Airspace; Northeast, AK

AGENCY: Federal Aviation Administration (FAA), DOT.

ACTION: Notice of proposed rulemaking (NPRM).

SUMMARY: This action proposes to revoke and establish Class E airspace in Northeast Alaska. The recent removal of a Colored Federal Airway near Kaktovik, AK, duplication of controlled airspace near Mentasta Lake, AK, and the establishment of one Special Area Navigation Standard Instrument Approach Procedure (SIAP) at Eagle Airport, AK, have made these actions necessary to enhance safety and management of Instrument Flight Rules (IFR) operations.

DATES: Comments must be received on or before July 19, 2010.

ADDRESSES: Send comments on the proposal to the Docket Management Facility, U.S. Department of Transportation, 1200 New Jersey Avenue, SE., West Building Ground Floor, Room W12-140, Washington, DC 20590-0001. You must identify the docket number FAA-2010-0445/Airspace Docket No. 10-AAL-13 at the beginning of your comments. You may also submit comments on the Internet at http://www.regulations.gov. You may review the public docket containing the proposal, any comments received, and any final disposition in person in the Dockets Office between 9 a.m. and 5 p.m., Monday through Friday, except Federal holidays. The Docket Office (telephone 1-800-647-5527) is on the plaza level of the Department of Transportation NASSIF Building at the above address.

An informal docket may also be examined during normal business hours at the office of the Manager, Safety, Alaska Flight Service Operations, Federal Aviation Administration, 222 West 7th Avenue, Box 14, Anchorage, AK 99513-7587.

FOR FURTHER INFORMATION CONTACT: Gary Rolf, Federal Aviation Administration, 222 West 7th Avenue, Box 14, Anchorage, AK 99513-7587; telephone number (907) 271-5898; fax: (907) 271-2850; e-mail: gary.ctr.rolf@faa.gov. Internet address: http://www.faa.gov/about/office_org/headquarters_offices/ato/service_units/systemops/fs/alaskan/rulemaking/.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal. Communications should identify both docket numbers and be submitted in triplicate to the address listed above. Commenters wishing the FAA to acknowledge receipt of their comments on this notice must submit with those comments a self-addressed, stamped postcard on which the following statement is made: “Comments to Docket No. FAA-2010-0445/Airspace Docket No. 10-AAL-13.” The postcard will be date/time stamped and returned to the commenter.

All communications received on or before the specified closing date for comments will be considered before taking action on the proposed rule. The proposal contained in this notice may be changed in light of comments received. All comments submitted will be available for examination in the public docket both before and after the closing date for comments. A report summarizing each substantive public contact with FAA personnel concerned with this rulemaking will be filed in the docket.

Availability of NPRMs

An electronic copy of this document may be downloaded through the Internet at http://www.regulations.gov. Recently published rulemaking documents can also be accessed through the FAA's Web page at http://www.faa.gov/airports_airtraffic/air_traffic/publications/airspace_amendments/.

You may review the public docket containing the proposal, any comments received, and any final disposition, in person in the Federal Docket Management System Office (see ADDRESSES section for address and phone number) between 9 a.m. and 5 p.m., Monday through Friday, except Federal holidays. An informal docket may also be examined during normal business hours at the office of the Alaska Flight Services Information Area Group. Persons interested in being placed on a mailing list for future NPRM's should contact the FAA's Office of Rulemaking, (202) 267-9677, to request a copy of Advisory Circular No. 11-2A, Notice of Proposed Rulemaking Distribution System, which describes the application procedure.

The Proposal

This action proposes to amend Title 14 Code of Federal Regulations (14 CFR) part 71 by revoking and establishing Class E airspace in Northeast Alaska, to accommodate a removed Colored Federal Airway (G16), duplication of controlled airspace near Mentasta Lake, AK, and the establishment of a new Special SIAP at Eagle Airport, AK. The new Class E airspace would provide adequate controlled airspace upward from 1,200 feet above the surface, to allow commercial air operations through what is now uncontrolled airspace above 1,200 feet. Air carriers providing service to Eagle, AK, must currently operate under Visual Flight Rules (VFR). With the establishment of an instrument approach at Eagle Airport, the uncontrolled airspace primarily extending to the west from the Eagle Airport, must be converted into controlled airspace. In the case of Eagle's instrument approach, the necessary controlled airspace will not extend far enough westward to connect with controlled airspace to the west. The required airspace designation is classified as E6 Enroute Domestic Airspace and is provided for the safety and management of IFR operations access at Eagle Airport. Additionally, with the evolution and expansion of controlled airspace serving the airports of Tok Junction, Northway and Gulkana AK, the Mentasta Lake/Mountains Area Class E6 Enroute Airspace is no longer necessary.

The Class E airspace areas designated as 700/1200 foot transition areas are published in paragraph 6006 in FAA Order 7400.9T, Airspace Designations and Reporting Points, signed August 27, 2009, and effective September 15, 2009, which is incorporated by reference in 14 CFR 71.1. The Class E airspace designations listed in this document would be subsequently published in the Order.

The FAA has determined that this proposed regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. Because this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle 1, section 106 describes the authority of the FAA Administrator. Subtitle VII, Aviation Programs, describes in more detail the scope of the agency's authority.

This rulemaking is promulgated under the authority described in subtitle VII, part A, subpart 1, section 40103, Sovereignty and use of airspace. Under that section, the FAA is charged with prescribing regulations to ensure the safe and efficient use of the navigable airspace. This regulation is within the scope of that authority because it proposes to revoke Class E airspace in Northeast Alaska, and establish Class E airspace to allow access at Eagle Airport, Eagle, AK, and represents the FAA's continuing effort to safely and efficiently use the navigable airspace.

List of Subjects in 14 CFR Part 71

Airspace, Incorporation by reference, Navigation (air).

The Proposed Amendment

In consideration of the foregoing, the Federal Aviation Administration proposes to amend 14 CFR part 71 as follows:

PART 71—DESIGNATION OF CLASS A, CLASS B, CLASS C, CLASS D, AND CLASS E AIRSPACE AREAS; AIR TRAFFIC SERVICE ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of Federal Aviation Administration Order 7400.9T, Airspace Designations and Reporting Points, signed August 27, 2009, and effective September 15, 2009, is to be amended as follows:

* * * * *

Paragraph 6006 En Route Domestic Airspace Areas.

* * * * *

AAL AK E6 Northeast, AK [New]

That airspace extending upward from 1,200 feet above the surface within an area beginning at lat. 63°55′00″ N. long. 141°00′00″ W., then westward along a line of latitude to 63°55′00″ N. long 144°00′00″ W., to 65°30′00″ N. long 144°00′00″ W., then eastward along a line of latitude to 65°30′00″ N. 144°00′00″ W., to the point of beginning.

* * * * *

AAL AK E6 Barter Island, AK [Removed]

* * * * *

AAL AK E6 Mentasta Lake/Mountains Area, AK [Removed]

Issued in Anchorage, AK, on May 7, 2010.
Anthony M. Wylie,
Manager, Alaska Flight Services Information Area Group.

[FR Doc. 2010-13138 Filed 6-1-10; 8:45 am]

BILLING CODE 4910-13-P